DEPARTMENT OF COMMERCE

International Trade Administration

[C-201-854]

Standard Steel Welded Wire Mesh From Mexico: Initiation of Countervailing Duty Investigation

AGENCY: Enforcement and Compliance, International Trade Administration, Department of Commerce.

DATES: Applicable July 20, 2020.

FOR FURTHER INFORMATION CONTACT: Joshua Tucker or Ian Hamilton, AD/CVD Operations, Office II, Enforcement and Compliance, International Trade Administration, U.S. Department of Commerce, 1401 Constitution Avenue NW, Washington, DC 20230; telephone: (202) 482-2044 or (202) 482-4798, respectively.

SUPPLEMENTARY INFORMATION:

The Petition

On June 30, 2020, the Department of Commerce (Commerce) received a countervailing duty (CVD) petition concerning imports of standard steel welded wire mesh (wire mesh) from Mexico filed in proper form on behalf of the petitioners,¹ domestic producers of wire mesh.² The Petition was accompanied by an antidumping duty (AD) petition concerning imports of wire mesh from Mexico.³

¹ Insteel Industries, Inc.; Mid South Wire Company; National Wire LLC; Oklahoma Steel & Wire Co.; and Wire Mesh Corp. (collectively, the petitioners).

² See Petitioners' Letter, “Standard Steel Welded Wire Mesh from Mexico—Petition for the Imposition of Antidumping and Countervailing Duties,” dated June 30, 2020 (the Petition).

³ Id.

On July 2, 2020 and July 6, 2020, Commerce requested supplemental information pertaining to certain aspects of the Petition,⁴ to which the petitioners filed responses on July 7, 2020 and July 8, 2020, respectively.⁵

⁴ See Commerce's Letter, “Petitions for the Imposition of Antidumping Duties and Countervailing Duties on Imports of Standard Steel Welded Wire Mesh from Mexico: Supplemental Questions,” dated July 2, 2020; see also Commerce's Letter, “Petition for the Imposition of Countervailing Duties on Standard Steel Welded Wire Mesh from Mexico: Supplemental Questions,” dated July 6, 2020.

⁵ See Petitioners' Letter, “Standard Steel Welded Wire Mesh from Mexico—Petitioners' Amendment to

Volume I Concerning General Issues,” dated July 7, 2020 (General Issues Supplement); see also Petitioners' Letter, “Standard Steel Welded Wire Mesh from Mexico—Petitioners' Amendment to Volume III Related to Countervailing Duties from Mexico,” dated July 8, 2020.

In accordance with section 702(b)(1) of the Tariff Act of 1930, as amended (the Act), the petitioners allege that the Government of Mexico (GOM) is providing countervailable subsidies, within the meaning of sections 701 and 771(5) of the Act, to producers of wire mesh in Mexico and that such imports are materially injuring, or threatening material injury to, the domestic industry producing wire mesh in the United States. Consistent with section 702(b)(1) of the Act and 19 CFR 351.202(b), for those alleged programs on which we are initiating a CVD investigation, the Petition was accompanied by information reasonably available to the petitioners supporting their allegations.

Commerce finds that the petitioners filed the Petition on behalf of the domestic industry because the petitioners are interested parties, as defined in section 771(9)(C) of the Act. Commerce also finds that the petitioners demonstrated sufficient industry support for the initiation of the requested CVD investigation.⁶

⁶ See infra, section on “Information Related to Industry Support.”

Period of Investigation

Because the Petition was filed on June 30, 2020, the period of investigation (POI) for this CVD investigation is January 1, 2019 through December 31, 2019, pursuant to 19 CFR 351.204(b)(2).⁷

⁷ See 19 CFR 351.204(b)(2).

Scope of the Investigation

The products covered by this investigation are wire mesh from Mexico. For a full description of the scope of this investigation, see the appendix to this notice.

Comments on Scope of the Investigation

As discussed in the Preamble to Commerce's regulations, we are setting aside a period for interested parties to raise issues regarding product coverage (i.e., scope).⁸ Commerce will consider all comments received from interested parties and, if necessary, will consult with interested parties prior to the issuance of the preliminary determination. If scope comments include factual information,⁹ all such factual information should be limited to public information. To facilitate preparation of its questionnaires, Commerce requests that all interested parties submit scope comments by 5:00 p.m. Eastern Time (ET) on August 10, 2020, which is the next business day after 20 calendar days from the signature date of this notice.¹⁰ Any rebuttal comments, which may include factual information, must be filed by 5:00 p.m. ET on August 20, 2020, which is ten calendar days from the initial comment deadline.

⁸ See Antidumping Duties; Countervailing Duties, Final Rule, 62 FR 27296, 27323 (May 19, 1997) (Preamble).

⁹ See 19 CFR 351.102(b)(21) (defining “factual information”).

¹⁰ See 19 CFR 351.303(b). Commerce's practice dictates that where a deadline falls on a weekend or Federal holiday, the appropriate deadline is the next business day (in this instance, August 10, 2020). See also Notice of Clarification: Application of “Next Business Day” Rule for Administrative Determination Deadlines Pursuant to the Tariff Act of 1930, As Amended, 70 FR 24533 (May 10, 2005); and 19 CFR 351.303(b).

Commerce requests that any factual information parties consider relevant to the scope of the investigation be submitted during this time period. However, if a party subsequently finds that additional factual information pertaining to the scope of the investigation may be relevant, the party may contact Commerce and request permission to submit the additional information. All such comments must also be filed on the record of the concurrent AD and CVD investigations.

Filing Requirements

All submissions to Commerce must be filed electronically using Enforcement and Compliance's (E&C's) Antidumping Duty and Countervailing Duty Centralized Electronic Service System (ACCESS), unless an exception applies.¹¹ An electronically filed document must be received successfully in its entirety by the time and date it is due.

¹¹ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on using ACCESS can be found at https://access.trade.gov/help.aspx and a handbook can be found at https://access.trade.gov/help/Handbook_on_Electronic_Filing_Procedures.pdf.

Consultations

Pursuant to sections 702(b)(4)(A)(i) and (ii) of the Act, Commerce notified the GOM of the receipt of the Petition and provided it the opportunity for consultations with respect to the CVD Petition.¹² The GOM requested consultations, which were held on July 17, 2020.¹³

¹² See Commerce's Letter, “Standard Steel Welded Wire Mesh from Mexico: Invitation for Consultation to Discuss the Countervailing Duty Petition,” dated July 10, 2020.

¹³ See Memorandum, “Standard Steel Welded Wire Mesh from Mexico Countervailing Duty Petition: Consultations with the Government of Mexico,” dated July 17, 2020.

Determination of Industry Support for the Petition

Section 702(b)(1) of the Act requires that a petition be filed on behalf of the domestic industry. Section 702(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 702(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹⁴ they do so for different purposes and pursuant to a separate and distinct authority. In addition, Commerce's determination is subject to limitations of time and information. Although this may result in different definitions of the like product, such differences do not render the decision of either agency contrary to law.¹⁵

¹⁴ See section 771(10) of the Act.

¹⁵ See USEC, Inc. v. United States, 132 F. Supp. 2d 1, 8 (CIT 2001) (citing Algoma Steel Corp., Ltd. v. United States, 688 F. Supp. 639, 644 (CIT 1988), aff'd 865 F.2d 240 (Fed. Cir. 1989), cert. denied 492 U.S. 919 (1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioners do not offer a definition of the domestic like product distinct from the scope of the investigation.¹⁶ Based on our analysis of the information submitted on the record, we have determined that wire mesh, as defined in the scope, constitutes a single domestic like product, and we have analyzed industry support in terms of that domestic like product.¹⁷

¹⁶ See Volume I of the Petition at 16-17; see also General Issues Supplement at 9-10.

¹⁷ For a discussion of the domestic like product analysis as applied to this case and information regarding industry support, see Countervailing Duty Investigation Initiation Checklist: Standard Steel Welded Wire Mesh from Mexico (Mexico CVD Initiation Checklist) at Attachment II, “Analysis of Industry Support for the Antidumping and Countervailing Duty Petitions Covering Standard Steel Welded Wire Mesh from Mexico” (Attachment II), dated concurrently with this notice and on file electronically via ACCESS.

In determining whether the petitioners have standing under section 702(c)(4)(A) of the Act, we considered the industry support data contained in the Petition with reference to the domestic like product as defined in the “Scope of the Investigation,” in the appendix to this notice. To establish industry support, the petitioners provided their 2019 production of the domestic like product, as well as the 2019 production of Davis Wire Corporation and Liberty Steel USA., supporters of the Petition.¹⁸ The petitioners compared the production of the supporters of the Petition to the estimated total production of the domestic like product for the entire domestic industry.¹⁹ We relied on data provided by the petitioners for purposes of measuring industry support.²⁰

¹⁸ See Volume I of the Petition at 3-4 and Exhibit GEN-3.

¹⁹ See Volume I of the Petition at 4 and Exhibits GEN-1 and GEN-3; see also General Issues Supplement at 11 and Exhibit GEN-SUPP-3.

²⁰ Id. For further discussion, see Mexico CVD Initiation Checklist at Attachment II.

From July 13-July 17, 2020, we received comments on industry support from Deacero S.A.P.I. de C.V, a Mexican producer, and its affiliated U.S. importer, Deacero USA, Inc. (collectively, Deacero).²¹ The petitioners responded to these industry support comments on July 14 and July 16, 2020, respectively.²²

²¹ See Deacero's Letter, “Standard Steel Welded Wire Mesh from Mexico—Request to Clarify Scope and to Poll Domestic Industry,” dated July 13, 2020; Deacero's Letter, “Standard Steel Welded Wire Mesh from Mexico—Continued Request to Clarify Scope and to Poll Domestic Industry,” dated July 15, 2020; and Deacero's Letter, “Standard Steel Welded Wire Mesh from Mexico—Third Request to Clarify Scope and to Poll Domestic Industry,” dated July 17, 2020.

²² See Petitioners' Letter, “Standard Steel Welded Wire Mesh from Mexico—Petitioners' Response to Deacero's Request to Clarify Scope and to Poll Domestic Industry,” dated July 14, 2020; see also Petitioners' Letter, “Standard Steel Welded Wire Mesh from Mexico—Petitioners' Response to Deacero's Second Request to Clarify Scope and to Poll Domestic Industry,” dated July 16, 2020.

Our review of the data provided in the Petition, the General Issues Supplement, and other information readily available to Commerce indicates that the petitioners have established industry support for the Petition.²³ First, the Petition established support from domestic producers (or workers) accounting for more than 50 percent of the total production of the domestic like product and, as such, Commerce is not required to take further action in order to evaluate industry support (e.g., polling).²⁴ Second, the domestic producers (or workers) have met the statutory criteria for industry support under section 702(c)(4)(A)(i) of the Act because the domestic producers (or workers) who support the Petition account for at least 25 percent of the total production of the domestic like product.²⁵ Finally, the domestic producers (or workers) have met the statutory criterion for industry support under section 702(c)(4)(A)(ii) of the Act because the domestic producers (or workers) who support the Petition account for more than 50 percent of the production of the domestic like product produced by that portion of the industry expressing support for, or opposition to, the Petition.²⁶ Accordingly, Commerce determines that the Petition was filed on behalf of the domestic industry within the meaning of section 702(b)(1) of the Act.²⁷

²³ Id.

²⁴ See Mexico CVD Initiation Checklist at Attachment II; see also section 702(c)(4)(D) of the Act.

²⁵ see Mexico CVD Initiation Checklist at Attachment II.

²⁶ Id.

²⁷ Id.

Injury Test

Because Mexico is a “Subsidies Agreement Country” within the meaning of section 701(b) of the Act, section 701(a)(2) of the Act applies to this investigation. Accordingly, the ITC must determine whether imports of the subject merchandise from Mexico materially injure, or threaten material injury to, a U.S. industry.

Allegations and Evidence of Material Injury and Causation

The petitioners allege that imports of the subject merchandise are benefitting from countervailable subsidies and that such imports are causing, or threaten to cause, material injury to the U.S. industry producing the domestic like product. In addition, the petitioners allege that subject imports exceed the negligibility threshold provided for under section 771(24)(A) of the Act.²⁸

²⁸ See Volume I of the Petition at 18-19 and Exhibit GEN-9.

The petitioners contend that the industry's injured condition is illustrated by a significant and increasing volume of subject imports; reduced market share; underselling and price depression and/or suppression; lost sales and revenues; decreasing capacity utilization rates and shipments; declines in employment variables; and declining financial performance and operating income.²⁹ We have assessed the allegations and supporting evidence regarding material injury, threat of material injury, causation, as well as negligibility, and we have determined that these allegations are properly supported by adequate evidence, and meet the statutory requirements for initiation.³⁰

²⁹ See Volume I of the Petition at 9-10, 15, 18-27 and Exhibits GEN-1, GEN-5, GEN-6 and GEN-9 through GEN-12; see also General Issues Supplement at 11 and Exhibit GEN-SUPP-5.

³⁰ See Mexico CVD Initiation Checklist at Attachment III, “Analysis of Allegations and Evidence of Material Injury and Causation for the Antidumping and Countervailing Duty Petitions Covering Standard Steel Welded Wire Mesh from Mexico.”

Initiation of CVD Investigation

Based upon the examination of the Petition and supplemental responses, we find that the Petition meets the requirements of section 702 of the Act. Therefore, we are initiating a CVD investigation to determine whether imports of wire mesh from Mexico benefit from countervailable subsidies conferred by the GOM. Based on our review of the Petition, we find that there is sufficient information to initiate a CVD investigation on 16 of the 17 alleged programs. For a full discussion of the basis for our decision to initiate on each program, see Mexico CVD Initiation Checklist. A public version of the initiation checklist for this investigation is available on ACCESS. In accordance with section 703(b)(1) of the Act and 19 CFR 351.205(b)(1), unless postponed, we will make our preliminary determination no later than 65 days after the date of this initiation.

Respondent Selection

In the Petition, the petitioners named nine companies in Mexico as producers/exporters of wire mesh.³¹ Commerce intends to follow its standard practice in CVD investigations and calculate company-specific subsidy rates in this investigation. In the event Commerce determines that the number of companies is large and it cannot individually examine each company based upon Commerce's resources, where appropriate, Commerce intends to select mandatory respondents based on U.S. Customs and Border Protection (CBP) data for U.S. imports of wire mesh from Mexico during the POI under the appropriate Harmonized Tariff Schedule of the United States numbers listed in the “Scope of the Investigation,” in the appendix.

³¹ See Volume I of the Petition at Exhibit GEN-7.

On July 15, 2020, Commerce released CBP data on imports of wire mesh from Mexico under administrative protective order (APO) to all parties with access to information protected by APO and indicated that interested parties wishing to comment on the CBP data must do so within three business days of the publication date of the notice of initiation of this investigation.³² Comments must be filed electronically using ACCESS. An electronically-filed document must be received successfully in its entirety via ACCESS by 5:00 p.m. ET on the specified deadline. Commerce will not accept rebuttal comments regarding the CBP data or respondent selection.

³² See Memorandum, “Standard Steel Welded Wire Mesh from Mexico Countervailing Duty Petition: Release of Customs Data from U.S. Customs and Border Protection,” dated July 15, 2020.

Interested parties must submit applications for disclosure under APO in accordance with 19 CFR 351.305(b). Instructions for filing such applications may be found on E&C's website at http://enforcement.trade.gov/apo.

Distribution of Copies of the Petition

In accordance with section 702(b)(4)(A) of the Act and 19 CFR 351.202(f), a copy of the public version of the CVD Petition has been provided to the GOM via ACCESS. Furthermore, to the extent practicable, we will attempt to provide a copy of the public version of the CVD Petition to each exporter named in the CVD Petition, as provided under 19 CFR 351.203(c)(2).

ITC Notification

Commerce will notify the ITC of our initiation, as required by section 702(d) of the Act.

Preliminary Determination by the ITC

The ITC will preliminarily determine, within 45 days after the date on which the CVD Petition was filed, whether there is a reasonable indication that imports of wire mesh from Mexico are materially injuring, or threatening material injury to, a U.S. industry.³³ A negative ITC determination will result in the investigation being terminated.³⁴ Otherwise, the CVD investigation will proceed according to statutory and regulatory time limits.

³³ See section 703(a)(1) of the Act.

³⁴ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ³⁵ and, if the information is submitted to rebut, clarify, or correct factual information already on the record, to provide an explanation identifying the information already on the record that the factual information seeks to rebut, clarify, or correct.³⁶ Time limits for the submission of factual information are addressed in 19 CFR 351.301, which provides specific time limits based on the type of factual information being submitted. Interested parties should review the regulations prior to submitting factual information in this investigation.

³⁵ See 19 CFR 351.301(b).

³⁶ See 19 CFR 351.301(b)(2).

Extensions of Time Limits

Parties may request an extension of time limits before the expiration of a time limit established under 19 CFR 351.301, or as otherwise specified by Commerce. In general, an extension request will be considered untimely if it is filed after the expiration of the time limit established under 19 CFR 351.301.³⁷ For submissions that are due from multiple parties simultaneously, an extension request will be considered untimely if it is filed after 10:00 a.m. ET on the due date. Under certain circumstances, Commerce may elect to specify a different time limit by which extension requests will be considered untimely for submissions which are due from multiple parties simultaneously. In such a case, Commerce will inform parties in a letter or memorandum of the deadline (including a specified time) by which extension requests must be filed to be considered timely. An extension request must be made in a separate, stand-alone submission; under limited circumstances we will grant untimely-filed requests for the extension of time limits. Parties should review Extension of Time Limits; Final Rule, 78 FR 57790 (September 20, 2013), available at http://www.gpo.gov/fdsys/pkg/FR-2013-09-20/html/2013-22853.htm, prior to submitting extension requests or factual information in this investigation.

³⁷ See 19 CFR 351.302.

Certification Requirements

Any party submitting factual information in an AD or CVD proceeding must certify to the accuracy and completeness of that information.³⁸ Parties must use the certification formats provided in 19 CFR 351.303(g).³⁹ Commerce intends to reject factual submissions if the submitting party does not comply with the applicable certification requirements.

³⁸ See section 782(b) of the Act.

³⁹ See Certification of Factual Information to Import Administration During Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, Commerce published Antidumping and Countervailing Duty Proceedings: Documents Submission Procedures; APO Procedures, 73 FR 3634 (January 22, 2008). Parties wishing to participate in this investigation should ensure that they meet the requirements of these procedures (e.g., the filing of letters of appearance as discussed at 19 CFR 351.103(d)). Note that Commerce has temporarily modified certain of its requirements for serving documents containing business proprietary information, until further notice.⁴⁰

⁴⁰ See Temporary Rule Modifying AD/CVD Service Requirements Due to COVID-19; Extension of Effective Period, 85 FR 41363 (July 10, 2020).

This notice is issued and published pursuant to sections 702 and 777(i) of the Act, and 19 CFR 351.203(c).

Dated: July 20, 2020.
Jeffrey I. Kessler,
Assistant Secretary for Enforcement and Compliance.

Appendix

Scope of the Investigation

The scope of this investigation covers uncoated standard welded steel reinforcement wire mesh (wire mesh) produced from smooth or deformed wire. Subject wire mesh is produced in square and rectangular grids of uniformly spaced steel wires that are welded at all intersections. Sizes are specified by combining the spacing of the wires in inches or millimeters and the wire cross-sectional area in hundredths of square inch or millimeters squared. Subject wire mesh may be packaged and sold in rolls or in sheets.

Subject wire mesh is currently produced to ASTM specification A1064/A1064M, which covers carbon-steel wire and welded wire reinforcement, smooth and deformed, for concrete in the following seven styles:

1. 6x6 W1.4/W1.4 or D1.4/D1.4

2. 6x6 W2.1/W2.1 or D2.1/D2.1

3. 6x6 W2.9/W2.9 or D2.9/D2.9

4. 6x6 W4/W4 or D4/D4

5. 6x12 W4/W4 or D4/D4

6. 4x4 W2.9/W2.9 or D2.9/D2.9

7. 4x4 W4/W4 or D4/D4

The first number in the style denotes the nominal spacing between the longitudinal wires and the second number denotes the nominal spacing between the transverse wires. In the first style listed above, for example, “6x6” denotes a grid size of six inches by six inches. “W” denotes the use of smooth wire, and “D” denotes the use of deformed wire in making the mesh. The number following the W or D denotes the nominal cross-sectional area of the transverse and longitudinal wires in hundredths of a square inch (i.e., W1.4 or D1.4 is .014 square inches).

Smooth wire is wire that has a uniform cross-sectional diameter throughout the length of the wire.

Deformed wire is wire with indentations or raised transverse ribs, which results in wire that does not have a uniform cross-sectional diameter throughout the length of the wire.

Rolls of subject wire mesh are produced in the following styles and nominal width and length combinations:

Style: 6x6 W1.4/W1.4 or D1.4/D1.4 (i.e., 10 gauge)

Roll Sizes:

5′ x 50′

5′ x 150′

6′ x 150′

5′ x 200′

7′ x 200′

7.5′ x 200′

Style: 6x6 W2.1/W2.1 or D2.1/D2.1 (i.e., 8 gauge)

Roll Sizes: 5′ x 150′

Style: 6x6 W2.9/W2.9 or D2.9/D2.9 (i.e., 6 gauge)

Roll Sizes:

5′ x 150′

7′ x 200′

All rolled wire mesh is included in scope regardless of length.

Sheets of subject wire mesh are produced in the following styles and nominal width and length combinations:

Style: 6x6 W1.4/W1.4 or D1.4/D1.4 (i.e., 10 gauge)

Sheet Size:

3′6″ x 7′

4′ x 7′

4′ x 7′6″

5′ x 10′

7′ x 20′

7′6″ x 20′

8′ x 12′6″

8′ x 15′

8′ x 20′

Style: 6x6 W2.1/W2.1 or D2.1/D2.1 (i.e., 8 gauge)

Sheet Size:

5′ x 10′

7′ x 20′

7′6″ x 20′

8′ x 12′6″

8′ x 15′

8′ x 20′

Style: 6x6 W2.9/W2.9 or D2.9/D2.9 (i.e., 6 gauge)

Sheet Size:

3′6″ x 20′

5′ x 10′

7′ x 20′

7′6″ x 20′

8′ x 12′6″

8′ x 15′

8′ x 20′

Style: 6x12 W4/W4 or D4/D4 (i.e., 4 gauge)

Sheet Size: 8′ x 20′

Style: 4x4 W2.9/W2.9 or D2.9/D2.9 (i.e., 6 gauge)

Sheet Size:

5′ x 10′

7′ x 20′

7′6″ x 20′

8′ x 12′6″

8′ x 12′8″

8′ x 15′

8′ x 20′

Style: 4x4 W4/W4 or D4/D4 (i.e., 4 gauge)

Sheet Size:

5′ x 10′

8′ x 12′6″

8′ x 12′8″

8′ x 15′

8′ x 20′

Any product imported, sold, or invoiced in one of these size combinations is within the scope.

ASTM specification A1064/A1064M provides for permissible variations in wire gauges, the spacing between transverse and longitudinal wires, and the length and width combinations. To the extent a roll or sheet of welded wire mesh falls within these permissible variations, it is within this scope.

ASTM specification A1064/A1064M also defines permissible oversteeling, which is the use of a heavier gauge wire with a larger cross-sectional area than nominally specified. It also permits a wire diameter tolerance of ± 0.003 inches for products up to W5/D5 and ± 0.004 for sizes over W5/D5. A producer may oversteel by increasing smooth or deformed wire diameter up to two whole number size increments on Table 1 of A1064. Subject wire mesh has the following actual wire diameter ranges, which account for both oversteeling and diameter tolerance:

W/D Number | Maximum oversteeling Number | Diameter range (inch)
1.4 (i.e., 10 gauge) | 3.4 | 0.093 to 0.211.
2.1 (i.e., 8 gauge) | 4.1 | 0.161 to 0.231.
2.9 (i.e., 6 gauge) | 4.9 | 0.189 to 0.253.
4.0 (i.e., 4 gauge) | 6.0 | 0.223 to 0.280.

To the extent a roll or sheet of welded wire mesh falls within the permissible variations provided above, it is within this scope.

In addition to the tolerances permitted in ASTM specification A1064/A1064M, wire mesh within this scope includes combinations where:

1. A width and/or length combination varies by ± one grid size in any direction, i.e., ± 6 inches in length or width where the wire mesh's grid size is “6x6”; and/or

2. The center-to-center spacing between individual wires may vary by up to one quarter of an inch from the nominal grid size specified.

Length is measured from the ends of any wire and width is measured between the center-line of end longitudinal wires.

Additionally, although the subject wire mesh typically meets ASTM A1064/A1064M, the failure to include certifications, test reports or other documentation establishing that the product meets this specification does not remove the product from the scope. Wire mesh made to comparable foreign specifications (e.g., DIN, JIS, etc.) or proprietary specifications is included in the scope.

Excluded from the scope is wire mesh that is galvanized (i.e., coated with zinc) or coated with an epoxy coating. In order to be excluded as galvanized, the excluded welded wire mesh must have a zinc coating thickness meeting the requirements of ASTM specification A641/A641M. Epoxy coating is a mix of epoxy resin and hardener that can be applied to the surface of steel wire.

Merchandise subject to this investigation are classified under Harmonized Tariff Schedule of the United States (HTSUS) categories 7314.20.0000 and 7314.39.0000. While HTSUS subheadings are provided for convenience and customs purposes, the written description of the scope of this investigation is dispositive.

[FR Doc. 2020-16186 Filed 7-24-20; 8:45 am]

BILLING CODE 3510-DS-P